OFFICE OF PERSONNEL MANAGEMENT

Excepted Service

ACTION: Notice.

SUMMARY: This gives notice of OPM decisions granting authority to make appointments under Schedules A, B, and C in the excepted service as required by 5 CFR 6.6 and 213.103.

FOR FURTHER INFORMATION CONTACT: David Guilford, Center for Leadership and Executive Resources Policy, Strategic Human Resources Policy Division, 202-606-1391.

SUPPLEMENTARY INFORMATION: Appearing in the listing below are the individual authorities established under Schedules A, B, and C between April 1, 2006, and April 30, 2006. Future notices will be published on the fourth Tuesday of each month, or as soon as possible thereafter. A consolidated listing of all authorities as of June 30 is published each year.

Schedule A

No Schedule A appointments were approved for April 2006.

Schedule B

No Schedule B appointments were approved for April 2006.

Schedule C

The following Schedule C appointments were approved during April 2006:

Section 213.3303 Executive Office of the President

Office of Management and Budget

BOGS00151 Deputy Press Secretary to the Press Secretary. Effective April 18, 2006.

Office of National Drug Control Policy

QQGS60089 Associate Director Office of Legislative Affairs to the Chief of Staff. Effective April 13, 2006.

Section 213.333 Office of Science and Technology Policy

TSGS60039 Assistant to the Director for Legislative Affairs to the Chief of Staff. Effective April 03, 2006.

Section 213.334 Department of State

DSGS61070 Special Advisor to the Assistant Secretary. Effective April 04, 2006.

DSGS61061 Protocol Officer (Gifts) to the Chief of Protocol. Effective April 07, 2006.

DSGS61062 Foreign Affairs Officer (Visits) to the Chief of Protocol. Effective April 07, 2006.

DSGS61071 Public Affairs Specialist to the Assistant Secretary for Public Affairs. Effective April 07, 2006.

DSGS61073 Senior Advisor to the Assistant Secretary for Population, Refugees and Migration. Effective April 07, 2006.

DSGS61074 Senior Advisor to the Assistant Secretary Bureau of International Narcotics and Law Enforcement Affairs. Effective April 07, 2006.

DSGS61076 Special Assistant to the Chief of Staff. Effective April 10, 2006.

DSGS61077 Special Assistant to the Coordinator for Counter-Terrorism. Effective April 14, 2006.

DSGS61078 Senior Advisor to the Assistant Secretary for Western Hemispheric Affairs. Effective April 18, 2006.

DSGS61081 Foreign Affairs Officer to the Director, Assistant Secretary, Bureau of Democracy, Human Rights and Labor. Effective April 25, 2006.

DSGS61084 Staff Assistant to the Director, Policy Planning Staff. Effective April 27, 2006.

Section 213.335 Department of the Treasury

DYGS00250 Director, Public Affairs to the Deputy Assistant Secretary for Public Affairs. Effective April 03, 2006.

DYGS00469 Deputy Assistant Secretary for Public Affairs to the Assistant Secretary (Public Affairs). Effective April 03, 2006.

DYGS60404 Senior Advisor to the Assistant Secretary (Financial Institutions). Effective April 27, 2006.

Section 213.336 Office of the Secretary of Defense

DDGS16930 Defense Fellow to the Special Assistant to the Secretary of Defense for White House Liaison. Effective April 10, 2006.

DGS16932 Defense Fellow to the Special Assistant to the Secretary of Defense for White House Liaison. Effective April 13, 2006.

DDGS16936 Special Assistant to the Principal Deputy Under Secretary of Defense (Comptroller) and Deputy Under Secretary of Defense (Management Reform). Effective April 14, 2006.

DDGS16937 Foreign Affairs Specialist to the Director, Administration and Management. Effective April 14, 2006. DDGS16942 Staff Assistant to the Deputy Assistant Secretary of Defense (Negotiations Policy). Effective April 19, 2006.

DDGS16929 Assistant for Research, Analysis and Special Projects to the Special Assistant to the Secretary and Deputy Secretary of Defense. Effective April 25, 2006.

Section 213.3310 Department of Justice

DJGS00187 Counsel to the Assistant Attorney General, Civil Division. Effective April 07, 2006.

DJGS00392 Policy Coordinator and Special Assistant to the Director, Executive Office for the United States Attorneys. Effective April 12, 2006.

DJGS00390 Counsel to the Assistant Attorney General (Legal Counsel). Effective April 17, 2006.

Section 213.3311 Department of Homeland Security

DMGS00498 Advisor to the Director for Intergovernmental. Effective April 03, 2006.

DMGS00499 Confidential Assistant to the Chief of Staff. Effective April 03, 2006.

DMGS00495 Assistant Director to the Assistant Secretary for Legislative Affairs. Effective April 05, 2006.

DMGS00501 Special Assistant to the Chief of Staff. Effective April 06, 2006.

DMGS00502 Confidential Assistant to the Deputy White House Liaison and Advisor to the Chief of Staff. Effective April 06, 2006.

DMGS00505 Confidential Assistant to the Secretary of the Department of Homeland Security. Effective April 7, 2006.

DMGS00488 Press Officer to the Assistant Commissioner for Public Affairs. Effective April 13, 2006.

DMGS00506 Policy Analyst to the Assistant Secretary for Private Sector. Effective April 14, 2006.

DMGS00507 Special Assistant to the Assistant Secretary for Policy. Effective April 14, 2006.

DMGS00508 Public Affairs Specialist to the Director of Communications, Office of Domestic Preparedness. Effective April 14, 2006.

DMGS00510 Policy Analyst to the Assistant Secretary for International Affairs. Effective April 14, 2006.

DMGS00511 Senior Advisor for Management to the Under Secretary for Management. Effective April 14, 2006.

DMGS00509 Legislative Assistant to the Assistant Secretary for Legislative Affairs. Effective April 19, 2006.

DMGS00503 Director of Strategic Communications to the Assistant Secretary for Public Affairs. Effective April 24, 2006.

DMGS00517 Executive Assistant to the Chief of Staff. Effective April 26, 2006.

Section 213.3314 Department of Commerce

DCGS00656 Confidential Assistant to the Director of Advance. Effective April 13, 2006.

DCGS00558 Confidential Assistant to the Director of Advance. Effective April 14, 2006.

DCGS00623 Public Affairs Specialist to the Assistant Secretary for Manufacturing and Services. Effective April 28, 2006.

Section 213.3315 Department of Labor

DLGS60089 Special Assistant to the Director of Operations. Effective April 6, 2006.

DLGS60045 Staff Assistant to the Special Assistant, Office of Public Affairs. Effective April 12, 2006.

DLGS60126 Special Assistant to the Solicitor of Labor. Effective April 14, 2006.

DLGS60225 Staff Assistant to the Assistant Secretary for Public Affairs. Effective April 26, 2006.

Section 213.3316 Department of Health and Human Services

DHGS60030 Special Assistant to the General Counsel. Effective April 7, 2006.

DHGS60006 Confidential Assistant to the Assistant Secretary for Public Affairs. Effective April 12, 2006.

DHGS60032 Special Assistant to the Deputy Commissioner for Policy. Effective April 12, 2006.

DHGS60374 Confidential Assistant to the Executive Secretary. Effective April 12, 2006.

DHGS60033 Special Assistant to the Assistant Secretary for Administration and Management. Effective April 14, 2006.

DHGS60035 Confidential Assistant to the Administrator Centers for Medicare and Medicaid Services. Effective April 21, 2006.

DHGS60689 Director of Media Affairs to the Director, Office of External Affairs. Effective April 21, 2006.

DHGS60007 Special Assistant to the Associate Commissioner for External Relations. Effective April 26, 2006.

Section 213.3317 Department of Education

DBGS00514 Special Assistant to the Director, Faith-Based and Community Initiatives Center. Effective April 3, 2006.

DBGS00510 Special Assistant to the Director, Intergovernmental Affairs. Effective April 7, 2006.

DBGS00285 Special Assistant (Education Attache to the United States Mission to the United Nations Educational, Scientific and Cultural Organization) to the Secretary. Effective April 18, 2006.

DBGS00519 Confidential Assistant to the Deputy Assistant Secretary for Media Relations and Strategic Communications. Effective April 21, 2006.

DBGS00513 Special Assistant to the Assistant Secretary for Planning, Evaluation, and Policy Development. Effective April 24, 2006.

Section 213.3318 Environmental Protection Agency

EPGS06010 Senior Advance Specialist to the Deputy Chief of Staff (Operations). Effective April 20, 2006.

Section 213.3325 United States Tax Court

JCGS60069 Trial Clerk to the Chief Judge. Effective April 7, 2006.

JCGS60074 Trial Clerk to the Chief Judge. Effective April 7, 2006.

Section 213.3327 Department of Veterans Affairs

DVGS60011 Special Assistant to the Assistant Secretary for Public and Intergovernmental Affairs. Effective April 7, 2006.

DVGS60036 Protocol Liaison Officer to the Secretary. Effective April 19, 2006.

Section 213.3331 Department of Energy

DEGS005182 Legislative Advisor to the Assistant Secretary for Congressional and Intergovernmental Affairs. Effective April 21, 2006.

DEGS00515 Special Assistant to the Assistant Secretary for Environment, Safety and Health. Effective April 24, 2006.

DEGS00519 Special Assistant to the Assistant Secretary for Congressional and Intergovernmental Affairs. Effective April 24, 2006.

DEGS00521 Special Assistant to the White House Liaison. Effective April 24, 2006.

Section 213.3332 Small Business Administration

SBGS00598 Special Assistant to the Associate Administrator for Strategic Alliances. Effective April 12, 2006.

SBGS60112 Special Assistant to the Deputy Administrator. Effective April 12, 2006.

SBGS00597 Director of Scheduling to the Chief of Staff and Chief Operating Officer. Effective April 14, 2006.

SBGS00599 Assistant Administrator for Policy and Planning to the Associate Administrator for Policy. Effective April 28, 2006.

Section 213.3337 General Services Administration

GSGS00174 Senior Advisor to the Associate Administrator for Congressional and Intergovernmental Affairs. Effective April 6, 2006.

GSGS00176 Senior Advisor to the Associate Administrator for Congressional and Intergovernmental Affairs. Effective April 19, 2006.

Section 213.3339 United States International Trade Commission

TCGS60019 Staff Assistant (Legal) to a Commissioner. Effective April 12, 2006.

TCGS00013 Staff Assistant (Economics) to the Vice Chairman. Effective April 13, 2006.

Section 213.3348 National Aeronautics and Space Administration

NNGS00170 Program Specialist to the Deputy Administrator, Office of Program and Institutional Integration. Effective April 25, 2006.

Section 213.3379 Commodity Futures Trading Commission

CTGS00091 Chief Economist to the Chairperson. Effective April 21, 2006.

Section 213.3384 Department of Housing and Urban Development

DUGS60410 Special Assistant to the General Counsel. Effective April 5, 2006.

DUGS60543 Staff Assistant to the Director, Center for Faith Based and Community Initiatives. Effective April 14, 2006.

DUGS60176 Staff Assistant to the Deputy Assistant Secretary for Intergovernmental Affairs. Effective April 26, 2006.

Section 213.3391 Office of Personnel Management

PMGS00059 Congressional Relations Officer to the Director, Office of Congressional Relations.

Section 213.3394 Department of Transportation

DTGS60357 Special Assistant for Scheduling and Advance to the Director for Scheduling and Advance. Effective April 10, 2006.

Section 213.3396 National Transportation Safety Board

TBGS60107 Confidential Assistant to a Member. Effective April 25, 2006.

Authority: 5 U.S.C. 3301 and 3302; E.O. 10577, 3 CFR 1954-1958 Comp., p. 218.

Office of Personnel Management.
Dan G. Blair,
Deputy Director.

[FR Doc. E6-8720 Filed 6-5-06; 8:45 am]

BILLING CODE 6325-39-P